DEPARTMENT OF ENERGY

[FE Docket No. PP-197, DOE/EIS-0307]

Notice of Reopening Scoping Period and Schedule for Public Scoping Meetings; Public Service Company of New Mexico

AGENCY: Department of Energy (DOE).

ACTION: Notice.

SUMMARY: DOE announces that it is reopening the scoping period and will hold additional public scoping meetings for the environmental impact statement (DOE/EIS-0307) that is being prepared in connection with an application for a Presidential permit field by Public Service Company of New Mexico (PNM). PNM has applied for a Presidential permit to construct electric transmission lines across the U.S.-Mexico border. DOE is preparing an EIS, with the U.S. Forest Service as a cooperating agency, because together they have determined that the issuance of a DOE Presidential permit and/or issuance of a Forest Service “Special Use Permit” would constitute major Federal actions that may have a significant impact upon the environment within the meaning of the National Environmental Policy Act of 1969 (NEPA). The purpose of this notice is to open a new scoping period to obtain comments on the five alternative corridors proposed to be analyzed in the EIS. These alternative corridors have been derived from the eight study corridors that were the subject of previous scoping periods.

DATES: DOE invites interested agencies, organizations, and members of the public to submit comments or suggestions to assist in identifying significant environmental issues not previously identified and in determining the appropriate scope of the EIS. This new scoping period starts with the publication of this notice in the Federal Register and will continue until June 22, 2001. Written and oral comments will be given equal weight and DOE will consider all comments received or postmarked by June 22, 2001, in defining the scope of the EIS. Comments received or postmarked after that date will be considered to the extent possible.

Dates, times and locations for the public scoping meetings are:

1. June 12, 2001, 4 p.m. to 7 p.m., Rio Rico Resort, 1069 Camino Caralampi, Rio Rico, Arizona.

2. June 13, 2001, 4 p.m. to 7 p.m., Marana High School, Marana, Arizona.

Requests to speak at a public scoping meeting(s) should be received by the NEPA Document Manager, Mrs. Ellen Russell, at the address indicated below on or before June 7, 2001. Requests to speak may also be made at the time of the scoping meeting(s). However, persons who submitted advance requests to speak will be given priority if time should be limited during the meeting.

ADDRESSES: Written comments or suggestions on the scope of the EIS and requests to speak at the scoping meeting(s) should be addressed to: Mrs. Ellem Russell, NEPA Document Manager, Office of Fossil Energy (FE-27), U.S. Department of Energy, 1000 Independence Avenue, SW., Washington DC 20585-0350; phone 202-586-9624, facsimile: 202-287-5736, or by electronic mail at Ellen.Russell@hq.doe.gov. Comments that relate exclusively to activities on or impacts to lands under the control of the U.S. Forest Service may also be transmitted directly to Jerry Conner, Coronado National Forest, 300 W. Congress Street, Tucson, Arizona 85701; phone 520-670-4527 or via electronic mail at jconner@fs.fed.us.

FOR FURTHER INFORMATION CONTACT: For information on the proposed project or to receive a copy of the Draft EIS when it is issued, contact Mrs. Russell at the address listed in the ADDRESSES section of this notice.

For general information on the DOE NEPA review process, contact: Carol M. Borgstrom, Director, Office of NEPA Policy and Compliance (EH-42), U.S. Department of Energy, 1000 Independence Avenue, SW., Washington, DC 20585-0119; Phone: 202-586-4600 or leave a message at 800-472-2756; Facsimile: 202-586-7031.

SUPPLEMENTARY INFORMATION:

Background and Need for Agency Action

Executive Order 10485, as amended by Executive Order 12038, requires that a Presidential permit be issued by DOE before electric transmission facilities may be constructed, maintained, operated or connected at the U.S. international border. The Executive Order provides that a Presidential permit may be issued after a finding that the proposed project is consistent with the public interest. In determining consistency with the public interest, DOE considers the impacts of the project on the reliability of the U.S. electric power system and on the environment. The regulations implementing the Executive Order have been codified at 10 205.320-205.329. Issuance of a Presidential permit does not mandate that the project be completed; in fact, prior to construction, the recipient must obtain approval from all other Federal, state and local authorities with jurisdiction over the project.

On December 28, 1998, PNM filed an application for a Presidential permit with the Office of Fossil Energy of DOE. PNM proposed to construct up to two transmission lines on a single right-of-way extending approximately 210 to 250 miles from the electric switchyard near the Palo Verde Nuclear Generating Station (PVNGS), located approximately 30 miles west of Phoenix, Arizona, to the U.S.-Mexico border. South of the border, PNM would extend the line(s) approximately 60 miles to the Santa Ana Substation, located in the City of Santa Ana, Sonora, Mexico, and owned by the Commission Federal de Electricdad (CFE), the national electric utility of Mexico.

In its December 28, 1998, Presidential permit application, PNM identified three alternative corridors for construction of the two cross-border transmission lines. These corridors were the subject of public scoping meetings conducted in Nogales, Tucson, Patagonia, Sells, Ajo, Gila Bend, and Casa Grande, Arizona, in March 1999. The initial scoping period extended from February 12 to March 15, 1999 (64 FR 7173, February 12, 1999), and was later extended to April 14, 1999 (64 FR 13553, March 19, 1999). Later, three additional alternative corridors were developed and were the subject of public scoping meetings conducted in Green Valley, Tubac, Sasabe, Three Points (Robles Junction), and Tucson in June 1999, during a second scoping period that extended from June 10 to July 14, 1999 (64 FR 31204, June 10, 1999). A third scoping period was opened on July 20, 2000 (65 FR 45042, July 20, 2000), and, by an August 20, 2000, information letter to the public, continued until October 2, 2000, to receive public comment on two additional alternative corridors, one identified as the PNM “Preferred Alternative.” Public scoping meetings on these two additional alternative corridors were scheduled for Rio Rico and Tucson during August but were later canceled when DOE became aware from comments by the public that the quality of maps distributed and posted on the project web site was not adequate. Also, the public pointed out to DOE that during the month of August many residents of southern Arizona vacation outside of the State and either would not be available for the meeting or would not have received information on the proceeding.

When the third scoping period was opened on July 20, 2000, PNM had identified a total of eight corridors, modified the path of several from what had originally been presented to the public by DOE, and eliminated the proposal to use direct current (DC) technology. Since the close of the third scoping period, PNM has continued to identify, eliminate and/or modify its proposed alternative corridors. For example, initially, for each of its proposal corridors, PNM had assumed a two-mile-wide study corridor. As its proposal has evolved, PNM has more narrowly defined each alternative study corridor, reducing the width of most to approximately one mile. PNM also has continued to define corridor alternatives and consider multiple options to many segments of these corridors.

Earlier this year DOE informed PNM that this proceeding and the number of variations to proposed corridors had become too cumbersome for DOE to adequately describe and analyze or for the public to decipher. DOE requested PNM to identify the set of alternatives that DOE would propose to analyze in the EIS. DOE then mapped PNM's set of alternatives to provide the public with information to identify potential impacts to their property and to their community during this scoping period. In addition, DOE decided that it would not consider corridors PNM had earlier proposed through the Tohono O'odham Nation in light of the Nation's sovereignty and in response to its request that DOE terminate the NEPA and Presidential permit processes as they pertain to the Nation.

Each of the five corridors that DOE proposed to analyze in the EIS has been named after distinguishing characteristics in the southern part of the corridor within the United States: the East Valley Corridor, the Sasabe Corridor, the Pipeline Corridor, the Cross-Over Corridor (designated the PNM preferred corridor), and the Tucson Corridor. The first four of these corridors have an optional routing in the area near Picacho and Marana. A map and description of each of the alternatives (and options) is being mailed to stakeholders who have previously expressed an interest in this proposal. In addition, maps are available on the project web site maintained for DOE by Battelle Memorial Institute at http://projects.battelle.org/pnmeis/ or may be received by mail by leaving a message at 1-888-806-3421. In addition, from this web site interested persons can download other project-related information.

The EIS is being prepared to satisfy the environmental review requirements of any Federal agency having jurisdiction over the proposed project or any segment of it. The U.S. Forest Service (Coronado National Forest) has notified DOE that it will participate as a cooperating agency in the preparation of this EIS; several of the PNM-proposed corridors cross land under control of the Coronado National Forest. PNM must obtain a “Special Use Permit” from the U.S. Forest Service before a transmission line can be constructed on these lands.

Scoping Process

Interested parties are invited to participate in the scoping process. Public scoping meetings will be held at the locations, dates, and times indicated above under DATES and ADDRESSES sections. These scoping meetings will be informal but a transcript will be taken and made available on the project web site. The DOE presiding officer will establish only those procedures needed to ensure that everyone who wishes to speak has a chance to do so and that DOE understands all issues and comments. At this time DOE expects to provide speakers with approximately 5 minutes for their oral statements. Allotted time may change based on the number of speakers who register. Persons who have not submitted a request to speak in advance may register to speak at each scoping meeting, but advance requests are encouraged. Should any speaker desire to provide for the record further information that cannot be presented within the designated time, such additional information may be submitted in writing by the date listed in the DATES section. Both oral and written comments will be considered and given equal weight by DOE. Oral and written comments previously submitted in this proceeding have been entered in the official record of this proceeding and need not be resubmitted.

Issued in Washington, DC on May 15, 2001.
Anthony J. Como,
Deputy Director, Electric Power Regulation, Office of Coal & Power Im/Ex, Office of Coal & Power System, Office of Fossil Energy.

[FR Doc. 01-12538 Filed 5-17-01; 8:45 am]

BILLING CODE 6450-01-M